DEPARTMENT OF COMMERCE

National Oceanic and Atmospheric Administration

50 CFR Part 679

[Docket No. 000706201-0201-01; I.D. 060700A]

RIN 0648-AO00

Fisheries of the Exclusive Economic Zone Off Alaska; Removal of Vessel Moratorium of the GOA and BSAI

AGENCY: National Marine Fisheries Service (NMFS), National Oceanic and Atmospheric Administration (NOAA), Commerce.

ACTION: Final rule; technical amendment.

SUMMARY: NMFS issues a final rule to remove the obsolete text implementing the Vessel Moratorium Program (VMP), which expired on December 31, 1999, and was replaced by the License Limitation Program (LLP). In addition, several paragraphs in the regulations are revised to account for the removal of the moratorium text. These revisions are necessary to remove obsolete text, clarify and simplify existing text, promote compliance with the regulations, and facilitate enforcement efforts. This action is intended to further the goals and objectives of the Federal fishery management programs for crab groundfish fisheries off Alaska.

DATES: Effective July 21, 2000.

FOR FURTHER INFORMATION CONTACT: Patsy A. Bearden, 907-586-7228.

SUPPLEMENTARY INFORMATION:

Background

NMFS manages the groundfish fisheries in the Exclusive Economic Zone (EEZ) off Alaska and the crab fisheries in the EEZ of the Bering Sea and Aleutian Islands area according to fishery management plans (FMPs) prepared by the North Pacific Fishery Management Council (Council) under the authority of the Magnuson-Stevens Fishery Conservation and Management Act, 16 U.S.C., 1801 et seq. The FMPs are implemented by regulations at 50 CFR part 679. General regulations that also pertain to these fisheries appear in subpart H of 50 CFR part 600.

NMFS published a final rule in the Federal Register on August 10, 1995, (60 FR 40763) implementing the VMP and, on January 25, 1999 (64 FR 3651), published a final rule extending the program for 1 year. The VMP expired on December 31, 1999, when it was succeeded by the LLP, which became effective on January 1, 2000. This technical amendment is designed to remove obsolete regulatory text that implemented the VMP without making any substantive change in the LLP implementing regulations or other rules.

The changes implemented with this rule in each section are described as nfollows.

Purpose and Scope (§ 679.1)

Paragraph (c) is removed and reserved because it is no longer effective.

Definitions (§ 679.2)

Definitions of terms that were relevant only to the VMP are removed. Some defined terms that also are used in existing and currently effective regulations are revised or renumbered to remove only the parts of the definitions that were applicable to the VMP. Terms and their definitions that are removed by this action are “Lost or destroyed vessel,” “Moratorium crab species,” “Moratorium groundfish species,” “Moratorium species,” “Moratorium qualification,” “Original qualifying LOA,” “Original qualifying vessel,” and “Qualifying period.” Definitions of terms that are revised or renumbered by this action are “Catcher/processor,” “Catcher vessel,” “Directed fishing,” “Maximum LOA (MLOA),” “Person,” and “Reconstruction.”

Permits (§ 679.4)

Criteria required for a VMP permit specified at § 679.4(c) are no longer effective and are removed by this action. Paragraph (c) is reserved to maintain the designation sequence of the succeeding paragraphs. Some of these VMP permit criteria were integrated into the LLP and were referenced in the LLP qualification requirements at § 679.4(k). Hence, this action revises regulations implementing the LLP at § 679.4(k)(4) to add specified VMP qualification criteria that are included in the LLP licensing criteria previously included only by reference.

Prohibitions (§ 679.7)

Paragraphs (d)(13) and (14) in § 679.7 are revised by substituting the term “license limitation groundfish” for the term “moratorium groundfish species.” This change is made necessary by the substitution of the LLP for the VMP. Also in paragraph (e) of this section, the heading and text are removed and the paragraph reserved. Although paragraph (e) did not explicitly expire with the VMP, its continued existence no longer is necessary and could be confusing if it were not removed.

Western Alaska Community Development Quota Program (CDQ) (§ 679.30)

A reference in paragraph (a)(5)(i)(A)(1) of this section to catcher vessels and catcher/processors that could be exempt from the VMP is revised to reference the same exemption provided under the LLP. Although the Council originally recommended that this exemption for specific CDQ vessels be transferred to the LLP, more recently, it recommended its deletion because it is no longer necessary. Removing the CDQ exemption is beyond the scope of this action and will be included in a future proposed rule.

Classification

Because this technical amendment makes only minor, non-substantive changes to an existing rule, NMFS finds that there is good cause to waive the requirement to provide notice and an opportunity for public comment, pursuant to authority set forth at 5 U.S.C. 553(b)(B), as such procedures are unnecessary. For the same reasons, NMFS finds good cause under 5 U.S.C. 553(d)(3) to waive the 30-day delay in effective date.

Because prior notice, delayed effectiveness and opportunity for public comment are not required for this final rule by U.S.C. 553, or any other law, the analytical requirements of the Regulatory Flexibility Act, 5 U.S.C. 601 et seq., are inapplicable.

This final rule has been determined to be not significant for purposes of Executive Order 12866.

List of Subjects in 50 CFR Part 679

Alaska, Fisheries, Recordkeeping and reporting requirements.

Dated: July 9, 2000.
Penelope D. Dalton,
Assistant Administrator for Fisheries, National Marine Fisheries Service.

For the reasons set forth in the preamble, 50 CFR part 679 is amended as follows:

PART 679—FISHERIES OF THE EXCLUSIVE ECONOMIC ZONE OFF ALASKA

1. The authority citation for 50 CFR part 679 continues to read as follows:

Authority: 16 U.S.C. 773 et seq., 1801 et seq., and 3631 et seq.

§ 679.1 [Amended]

2. In § 679.1, paragraph (c) is removed and reserved.

3. In § 679.2, definitions for the terms “Lost or destroyed vessel (applicable through December 31, 1998),” “Moratorium crab species (applicable through December 31, 1999),” “Moratorium groundfish species (applicable through December 31, 1999),” “Moratorium qualification (applicable through December 31, 1999),” “Moratorium species,” “Original qualifying LOA (applicable through December 31, 1999),” “Original qualifying vessel (applicable through December 31, 1999),” “Qualifying period (applicable through December 31, 1999),” and “Reconstruction (applicable through December 31, 1999)” are removed, definitions for the terms “Catcher/processor,” “Catcher vessel” “Directed fishing,” “Maximum LOA (MLOA)”, and “Person,” are revised, and a new definition of “Reconstruction” is added to read as follows:

§ 679.2 Definitions.

* * * * *

Catcher/processor means:

(1) With respect to groundfish recordkeeping and reporting, a vessel that is used for catching fish and processing that fish.

(2) With respect to subpart E of this part, a processor vessel that is used for, or equipped to be used for, catching fish and processing that fish.

* * * * *

Catcher vessel means a vessel that is used for catching fish and that does not process fish on board.

* * * * *

Directed fishing means:

(1) With respect to groundfish recordkeeping and reporting, any fishing activity that results in the retention of an amount of a species or species group on board a vessel that is greater than the maximum retainable bycatch amount for that species or species group as calculated under § 679.20.

(2) With respect to license limitation groundfish species, directed fishing as defined in paragraph (1) of this definition, or, with respect to license limitation crab species, the catching and retaining of any license limitation crab species.

(3) (Applicable through July 20, 2000) With respect to the harvest of groundfish by AFA catcher/processors and AFA catcher vessels, any fishing activity that results in the retention of an amount of a species or species group on board a vessel that is greater than the maximum retainable bycatch amount for that species or species group as calculated under § 679.20.

* * * * *

Maximum LOA (MLOA) means, with respect to the groundfish and crab license limitation program, the LOA of the vessel on June 24, 1992, unless the vessel was less than 125 ft (38.1 m) on June 24, 1992, then 1.2 times the LOA of the vessel on June 24, 1992, or 125 ft (38.1 m), whichever is less. However, if the vessel was under reconstruction on June 24, 1992, then the basis for the MLOA will be the LOA of the vessel on the date that reconstruction was completed and not June 24, 1992. The following exceptions apply regardless of how the MLOA was determined.

(1) If the vessel's LOA on June 17, 1995, was less than 60 ft (18.3 m), or if the vessel was under reconstruction on June 17, 1995, and the vessel's LOA on the date that reconstruction was completed was less than 60 ft (18.3 m), then the vessel's MLOA cannot exceed 59 ft (18 m).

(2) If the vessel's LOA on June 17, 1995, was greater than or equal to 60 ft (18.3 m) but less than 125 ft (38.1 m), or if the vessel was under reconstruction on June 17, 1995, and the vessel's LOA on the date that reconstruction was completed was greater than or equal to 60 ft (18.3 m) but less 125 ft (38.1 m), then the vessel's MLOA cannot exceed 124 ft (37.8 m).

(3) If the vessel's LOA on June 17, 1995, was 125 ft (38.1 m) or greater, then the vessel's MLOA is the vessel's LOA on June 17, 1995, or if the vessel was under reconstruction on June 17, 1995, and the vessel's LOA on the date that reconstruction was completed was 125 ft (38.1 m) or greater, then the vessel's MLOA is the vessel's LOA on the date reconstruction was completed.

* * * * *

Person means:

(1) For IFQ and CDQ Programs and General Usage the term “person” means any individual who is a citizen of the United States or any corporation, partnership, association, or other entity (or its successor-in-interest), regardless of whether organized or existing under the laws of any state, who is a U.S. citizen.

(2) For High Seas Salmon Fishery permits issued under § 679.4(h), the term “person” excludes any nonhuman entity.

* * * * *

Reconstruction means a change in the LOA of the vessel from its original qualifying LOA.

* * * * *

4. In § 679.4, paragraph (c) is removed and reserved, and paragraphs (k)(4)(i)(A)(3), (k)(4)(i)(B)(3), and (k)(5)(i)(B) are revised to read as follows:

§ 679.4 Permits.

* * * * *

(k) * * *

(4) * * *

(i) * * *

(A) * * *

(3) January 1, 1988, through June 17, 1995, provided that, during the period January 1, 1988, through February 9, 1992, the vessel made a legal landing of any king or Tanner crab species harvested in the Bering Sea and Aleutian Islands Area, and, during the period February 10, 1992, through December 11, 1994, made a legal landing of any groundfish species harvested in the GOA or BSAI using trawl gear or a legal landing harvested in the GOA or BSAI of any groundfish species using longline gear, except sablefish landed using fixed gear.

(B) * * *

(3) January 1, 1988, through June 17, 1995, provided that, during the period January 1, 1988, through February 9, 1992, the vessel made a legal landing of any king or Tanner crab species harvested in the Bering Sea and Aleutian Islands Area, and during the period February 10, 1992, through December 11, 1994, made a legal landing of any groundfish species harvested in the GOA or BSAI using trawl gear or a legal landing of any groundfish species harvested in the GOA or BSAI using longline gear, except sablefish landed using fixed gear.

* * * * *

(5) * * *

(i) * * *

(B) At least one documented harvest of any amount of crab species must have been made from a vessel between January 1, 1988, and December 31, 1994, providing that, during the period January 1, 1988, through February 9, 1992, the vessel for which the documented harvest was made also made a legal landing of any groundfish species harvested in the GOA or BSAI with any authorized gear, except sablefish caught with fixed gear, and, during the period February 10, 1992, through December 11, 1994, made a legal landing of any king or Tanner crab species harvested in the Bering Sea and Aleutian Islands Area.

* * * * *

5. In § 679.7, paragraphs (d)(13) and (d)(14) are revised to read as set forth below and paragraph (e) is removed and reserved:

§ 679.7 Prohibitions.

* * * * *

(d) * * *

(13) For the operator of a catcher vessel, catch, retain on board, or deliver groundfish CDQ species together with license limitation groundfish.

(14) For the operator of a catcher/processor, catch groundfish CDQ species together with license limitation groundfish in the same haul, set, or pot.

* * * * *

6. In § 679.30, paragraph (a)(5)(i)(A)(1) is revised to read as follows:

§ 679.30 General CDQ regulations

(a) * * *

(5) * * *

(i) * * *

(A) * * *

(1) Information required for all vessels. A list of the name, Federal fisheries permit number (if applicable), ADF&G vessel number, LOA, gear type, and vessel type (catcher vessel, catcher/processor, or mothership). For each vessel, report only the gear types and vessel types that will be used while CDQ fishing. Any CDQ vessel that is exempt from license limitation requirements under § 679.4(k)(2)(iv) of this part must be identified as such.

* * * * *

[FR Doc. 00-18564 Filed 7-20-00; 8:45 am]

BILLING CODE 3510-22-F